FEDERAL COMMUNICATIONS COMMISSION

47 CFR Part 73

[DA 00-158; MM Docket No. 99-10; RM-9435, RM-9688]

Radio Broadcasting Services; Walton and Livingston Manor, NY

AGENCY: Federal Communications Commission.

ACTION: Final rule.

SUMMARY: The Commission, at the request of AM Communications, allots Channel 296A to Livingston Manor, NY, as the community's first local aural service, and denies the request of Dana Puopolo to allot Channel 296A to Walton, NY, as the community's second local FM and third local aural service. See 64 FR 5626, February 4, 1999. Canadian concurrence in the allotment has been received since Livingston Manor is located within 320 kilometers (200 miles) of the U.S.-Canadian border. A filing window for Channel 296A Livingston Manor, NY, will not be opened at this time. Instead, the issue of opening a filing window for this channel will be addressed by the Commission in a subsequent order.

DATES: Effective March 17, 2000.

FOR FURTHER INFORMATION CONTACT: Leslie K. Shapiro, Mass Media Bureau, (202) 418-2180.

SUPPLEMENTARY INFORMATION: This is a synopsis of the Commission's Report and Order, MM Docket No. 99-10, adopted January 19, 2000, and released February 1, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334. 336.

§ 73.202 [Amended]

2. Section 73.202(b), the Table of FM Allotments under New York, is amended by adding Livingston Manor, Channel 296A.

Federal Communications Commission.
John A. Karousos,
Chief, Allocations Branch, Policy and Rules Division, Mass Media Bureau.

[FR Doc. 00-3632 Filed 2-15-00; 8:45 am]

BILLING CODE 6712-01-P